DEPARTMENT OF TRANSPORTATION

Federal Aviation Administration

14 CFR Part 39

[Docket No. 2000-NE-12-AD; Amendment 39-12191; AD 2001-08-14]

RIN 2120-AA64

Airworthiness Directives; Turbomeca S.A. Arrius Models 2B, 2B1, and 2F Turboshaft Engines

AGENCY: Federal Aviation Administration, DOT.

ACTION: Final rule.

SUMMARY: This amendment adopts a new airworthiness directive (AD), that is applicable to Turbomeca S.A. Arrius Models 2B, 2B1, and 2F turboshaft engines. This amendment requires the replacement of the right injector half manifold, left injector half manifold, and privilege injector pipe. This amendment is prompted by reports from the Direction Generale de L'Aviation Civile (DGAC), which is the airworthiness authority for France, of partially or totally blocked fuel injection manifolds, which were found during inspections at a repair workshop. The actions specified by this AD are intended to prevent engine flameout during rapid deceleration, or the inability to maintain the 2.5 minutes one engine inoperative (OEI) rating. The actions are also intended to prevent air path cracks, due to blockage of the fuel injection manifolds.

DATES: Effective date May 31, 2001. The incorporation by reference of certain publications listed in the regulations is approved by the Director of the Federal Register as of May 31, 2001.

ADDRESSES: The service information referenced in this AD may be obtained from Turbomeca S.A., 40220 Tarnos, France; telephone: (33) 05 59 64 40 00; fax: (33) 05 59 64 60 80. This information may be examined at the FAA, New England Region, Office of the Regional Counsel, 12 New England Executive Park, Burlington, MA; or at the Office of the Federal Register, 800 North Capitol Street, NW, suite 700, Washington, DC.

FOR FURTHER INFORMATION CONTACT: James Rosa, Aerospace Engineer, Engine Certification Office, FAA, Engine and Propeller Directorate, 12 New England Executive Park, Burlington, MA 01803-5299; telephone: (781) 238-7152; fax: (781) 238-7199.

SUPPLEMENTARY INFORMATION: A proposal to amend part 39 of the Federal Aviation Regulations (14 CFR part 39) to include an AD that is applicable to Turbomeca S.A. Arrius Models 2B, 2B1, and 2F turboshaft engines was published in the Federal Register on December 6, 2000 (65 FR 76187). That action proposed to require the replacement of the right injector half manifold, left injector half manifold, and privilege injector pipe with the engine installed on the helicopter in accordance with Turbomeca Alert Service Bulletin (ASB) No. A319 73 2012, Revision 2, dated May 25, 1999, for Arrius 2B and 2B1 turboshaft engines, and ASB No. A319 73 4001, Revision 3, dated May 25, 1999, for Arrius 2F turboshaft engines.

Comments

Interested persons have been afforded an opportunity to participate in the making of this amendment. Due consideration has been given to the comments received.

Wording Changes

One commenter suggests that the word “obtain” be substituted for the word “maintain” in various places throughout the rule.

The FAA does not agree. The word “maintain” in this case refers to a rating which is required in the type certificate data sheet, e.g. the aircraft must maintain the ability to achieve 520 shaft horse power for 2.5 minutes with one engine inoperative in order to meet type design requirements.

The commenter also states that the word “injector” is meaningless as it is used in the last sentence of the summary.

The FAA agrees and the word “injector” has been removed from the last sentence in the summary.

Revised Alert Service Bulletins

The manufacturer states that the most recent ASB revisions should be cited in the rule to capture its clarification and changes.

The FAA partially agrees. The most recent ASB revisions, which are Turbomeca ASB No. A319 73 2012, Revision 3, dated July 21, 2000, and ASB No. A319 73 4001, Revision 4, dated October 20, 2000, have added the replacement of the manifold at the Turbomeca Repair Center, in Tarnos, France as an alternative to the on-airframe replacement. This AD allows operators credit for manifold replacement that was done in accordance with the previous revisions of the ASB's. Paragraph (a) of this AD has been changed to allow replacements of the manifolds with new or refurbished parts to be done by operators on installed engines; refurbishment to be done by Turbomeca's Repair Center or by any appropriately rated repair shop.

Change Compliance To Allow Use of Refurbished Parts

The manufacturer states that the requirements of paragraph (c) in the rule should be changed to allow the use of refurbished parts.

The FAA agrees. Paragraph (c) is changed to remove the existing installation limitations, and to add a definition of time-in-service.

After careful review of the available data, including the comments noted above, the FAA has determined that air safety and the public interest require the adoption of the rule with the changes described previously. The FAA has determined that these changes will neither increase the economic burden on any operator nor increase the scope of the AD.

Economic Impact

There are about 130 engines of the affected design in the worldwide fleet. The FAA estimates that 22 engines installed on aircraft of U.S. registry will be affected by this AD, that it will take about 2 work hours per engine to accomplish the required actions, and that the average labor rate is $60 per work hour. Required parts will cost about $14,320 per engine. Based on these figures, the total cost impact of the AD on U.S. operators is estimated to be $317,680 for initial inspection and parts replacement. The manufacturer has advised the DGAC that the operator may exchange the removed injection manifolds, at no cost to the operator, thereby substantially reducing the cost impact of this rule.

Regulatory Impact

This final rule does not have federalism implications, as defined in Executive Order 13132, because it would not have a substantial direct effect on the States, on the relationship between the national government and the States, or on the distribution of power and responsibilities among the various levels of government. Accordingly, the FAA has not consulted with state authorities prior to publication of this final rule.

For the reasons discussed above, I certify that this action (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A final evaluation has been prepared for this action and it is contained in the Rules Docket. A copy of it may be obtained by contacting the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2001-08-14 Turbomeca S.A. Arrius Models 2B, 2B1, and 2F Turboshaft Engines: Amendment 39-12191. Docket No. 2000-NE-12-AD.

Applicability

This airworthiness directive (AD) is applicable to Turbomeca S.A. Arrius Models 2B, 2B1, and 2F turboshaft engines. These engines are installed on, but not limited to Eurocopter France Model EC120B and Eurocopter Deutschland EC135 T1 rotorcraft.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance

Compliance with this AD is required as indicated, unless already done.

To prevent engine flameout and the inability to maintain the 2.5 minutes one engine inoperative (OEI) rating due to blockage of the fuel injection manifolds, do the following:

Initial Replacement

(a) If not already done in accordance with Turbomeca Alert Service Bulletin (ASB) No. A319 73 2012, Revision 2, dated May 25, 1999, or ASB No. A319 73 4001, Revision 3, dated May 25, 1999, replace injector manifolds and borescope-inspect the flame tube and the high pressure turbine area within 30 days after the effective date of this AD, or prior to exceeding 200 hours time-in-service (TIS), whichever is later. Do these in accordance with Instructions 2.A. through 2.C. of Turbomeca ASB No. A319 73 2012, Revision 3, dated July 21, 2000 for Arrius 2B and 2B1 turboshaft engines, and ASB No. A319 73 4001, Revision 4, dated October 20, 2000, for Arrius 2F turboshaft engines, except that replacement may be done at any appropriately rated repair shop.

Repetitive Replacements

(b) Thereafter, replace injector manifolds within 200 hours TIS since last replacement, or prior to further flight after performing the applicable flight manual or overhaul manual power check if the power check shows a negative turbine outlet temperature (TOT) margin or negative T4 margin.

Definition

(c) For the purposes of this AD, time-in-service (TIS) is defined as the number of engine operating hours on the manifolds since the manifolds were new or since the manifolds were refurbished.

Alternative Methods of Compliance

(d) An alternative method of compliance or adjustment of the compliance time that provides an acceptable level of safety may be used if approved by the Manager, Engine Certification Office. Operators shall submit their request through an appropriate FAA Principal Maintenance Inspector, who may add comments and then send it to the Manager, Engine Certification Office.

Note 2: Information concerning the existence of approved alternative methods of compliance with this airworthiness directive, if any, may be obtained from the Engine Certification Office.

Special Flight Permits

(e) Special flight permits may be issued in accordance §§ 21.197 and 21.199 of the Federal Aviation Regulations (14 CFR 21.197 and 21.199) to operate the aircraft to a location where the requirements of this AD can be accomplished.

Documents That Have Been Incorporated By Reference

(f) The inspections and replacements shall be done in accordance with the following Turbomeca S.A. alert service bulletins (ASB's):

Document No. | Pages | Revision | Date
ASB No. A319 73 2012 Total pages: 5 | 5 | 2 | May 25, 1999.
ASB No. A319 73 2012 Total pages: 5 | 5 | 3 | July 21, 2000.
ASB No. A319 73 4001 Total pages: 5 | 5 | 3 | May 25, 1999.
ASB No. A319 73 4001 Total pages: 5 | 5 | 4 | October 20, 2000.

This incorporation by reference was approved by the Director of the Federal Register in accordance with 5 U.S.C. 552(a) and 1 CFR part 51. Copies may be obtained from Turbomeca S.A., 40220 Tarnos, France; telephone: (33) 05 59 64 40 00; fax: (33) 05 59 64 60 80. Copies may be inspected at the FAA, New England Region, Office of the Regional Counsel, 12 New England Executive Park, Burlington, MA; or at the Office of the Federal Register, 800 North Capitol Street, NW, suite 700, Washington, DC.

Note 3: The subject of this AD is addressed by the Direction Generale de L'Aviation Civile (DGAC), which is the airworthiness authority for France, in airworthiness directives AD 1999-217(A) and AD 1999-233(A).

Effective Date

(g) This amendment becomes effective on May 31, 2001.

Issued in Burlington, Massachusetts, on April 16, 2001.
Francis A. Favara,
Acting Manager, Engine and Propeller Directorate, Aircraft Certification Service.

[FR Doc. 01-10021 Filed 4-25-01; 8:45 am]

BILLING CODE 4910-13-P